DEPARTMENT OF ENERGY

Federal Energy Regulatory Commission

Combined Notice of Filings #1

Take notice that the Commission received the following electric corporate filings:

Docket Numbers: EC14-112-001.

Applicants: Talen Energy Corporation.

Description: Motion of Talen Energy Corporation to Amend Mitigation Plan and Request for Extended Comment Period.

Filed Date: 9/8/15.

Accession Number: 20150908-5278.

Comments Due: 5 p.m. ET 9/29/15.

Docket Numbers: EC15-204-000.

Applicants: SunE Solar XVII Project3, LLC.

Description: Application for Authorization Under Section 203 of the Federal Power Act and Request for Waivers, Confidential Treatment, Expedited Action and Shortened Comment Period of SunE Solar XVII Project3, LLC.

Filed Date: 9/8/15.

Accession Number: 20150908-5302.

Comments Due: 5 p.m. ET 9/29/15.

Take notice that the Commission received the following electric rate filings:

Docket Numbers: ER14-1097-001.

Applicants: Entergy Arkansas, Inc.

Description: Compliance filing: EAI Compliance Filing of Executed WDS Agreements to be effective 1/1/2015.

Filed Date: 9/8/15.

Accession Number: 20150908-5270.

Comments Due: 5 p.m. ET 9/29/15.

Docket Numbers: ER15-2455-001.

Applicants: Koch Energy Services, LLC.

Description: Tariff Amendment: Supplement to Application for Market-Based Rate Authorization to be effective 10/1/2015.

Filed Date: 9/8/15.

Accession Number: 20150908-5267.

Comments Due: 5 p.m. ET 9/29/15.

Docket Numbers: ER15-2623-000.

Applicants: Nevada Power Company.

Description: Section 205(d) Rate Filing: Rate Schedule No. 149 & 150 NPC/DesertLink O&M and LSA together HAE to be effective 1/1/9998.

Filed Date: 9/8/15.

Accession Number: 20150908-5261.

Comments Due: 5 p.m. ET 9/29/15.

Docket Numbers: ER15-2624-000.

Applicants: Ameren Illinois Company.

Description: Tariff Cancellation: Notices of Cancellation for Rate Schedule Nos. 100, 101, and 102 to be effective 7/13/2015.

Filed Date: 9/8/15.

Accession Number: 20150908-5264.

Comments Due: 5 p.m. ET 9/29/15.

Docket Numbers: ER15-2625-000.

Applicants: Nevada Power Company.

Description: Section 205(d) Rate Filing: Rate Schedule No. 117 1st Amded Restated Agr. NPC/SPPC/Great Basin South to be effective 1/1/9998.

Filed Date: 9/8/15.

Accession Number: 20150908-5269.

Comments Due: 5 p.m. ET 9/29/15.

Docket Numbers: ER15-2626-000.

Applicants: ISO New England Inc.

Description: ISO New England Inc. submits correction of zonal location for the Holliston resource.

Filed Date: 9/8/15.

Accession Number: 20150908-5271.

Comments Due: 5 p.m. ET 9/29/15.

Docket Numbers: ER15-2627-000.

Applicants: Midcontinent Independent System Operator, Inc.

Description: Notice of Termination of the Transmission Interconnection Agreement of Midcontinent Independent System Operator, Inc.

Filed Date: 9/8/15.

Accession Number: 20150908-5274.

Comments Due: 5 p.m. ET 9/29/15.

Docket Numbers: ER15-2628-000.

Applicants: ISO New England Inc., New England Power Pool Participants Committee.

Description: Section 205(d) Rate Filing: Revisions to Market Rule 1 Related to Resource Auditing to be effective 12/1/2015.

Filed Date: 9/9/15.

Accession Number: 20150909-5046.

Comments Due: 5 p.m. ET 9/30/15.

Docket Numbers: ER15-2629-000.

Applicants: Southwest Power Pool, Inc.

Description: Section 205(d) Rate Filing: 3051 Empire District and Kansas Gas and Electric Interconnection Agreement to be effective 12/31/9998.

Filed Date: 9/9/15.

Accession Number: 20150909-5047.

Comments Due: 5 p.m. ET 9/30/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2015.
Nathaniel J. Davis, Sr.,
Deputy Secretary.

[FR Doc. 2015-23180 Filed 9-15-15; 8:45 am]

BILLING CODE 6717-01-P